DEPARTMENT OF LABOR

Employment and Training Administration

[TA-W-59,087]

Falcon Footwear Company, a Division of Magnum Hitech, Lewiston, ME; Notice of Termination of Investigation

Pursuant to section 221 of the Trade Act of 1974, as amended, an investigation was initiated on March 27, 2006 in response to a worker petition filed by a company official on behalf of workers at Falcon Footwear Company, a division of Magnum HiTech, Lewiston, Maine.

The petitioner has requested that the petition be withdrawn. Consequently, the investigation has been terminated.

Signed at Washington, DC this 2nd day of May 2006.
Richard Church,
Certifying Officer, Division of Trade Adjustment Assistance.

[FR Doc. E6-7521 Filed 5-16-06; 8:45 am]

BILLING CODE 4510-30-P